CONSUMER PRODUCT SAFETY COMMISSION

Public Field Hearing Concerning Swimming Pool Safety

AGENCY: U.S. Consumer Product Safety Commission.

ACTION: Notice of public field hearing.

SUMMARY: The U.S. Consumer Product Safety Commission (“CPSC or Commission”) will conduct a public field hearing in Tampa, Florida, on Monday, June 21, 2004 to obtain information and views from the public concerning swimming pool safety. The hearing will focus on drownings of children under 5 years old in residential swimming pools and spas, as well as entrapments and entanglements in suction outlets in swimming pools and spas. The hearing will address the following general questions: What has worked to prevent swimming pool drownings of young children—and why? What has not worked to prevent these drownings—and why? What can CPSC do to reduce drownings of young children in residential swimming pools? What strategies are most effective in addressing suction entrapment and entanglement incidents? What can CPSC do to prevent these incidents?

The Commission requests members of the public to participate in this hearing. The Commission is particularly interested in participation from city/county/state code officials, injury prevention specialists, industry representatives, fire department/EMS officials, medical personnel, legislative officials, and parents/caregivers of children who were victims of drowning or near-drowning.

DATES: The hearing will be held on Monday, June 21, 2004, from 10 a.m. to 6 p.m. The Commission will recess for lunch around 12 noon. Requests to make an oral presentation, and 10 copies of the text of the presentation, must be received by the Office of the Secretary no later than June 7, 2004. Persons making presentations at the meeting should provide an additional 10 copies for dissemination on the date of the meeting. In addition, requests for audiovisual equipment (e.g., Powerpoint) for presentations must be made to the Office of the Secretary by June 7, 2004. Oral presentations should run no more than 5 minutes. The Commission reserves the right to limit the number of persons who make presentations and the duration of their presentations. To prevent similar presentations, groups may be directed to designate a spokesperson. Written submissions in addition to, or instead of, oral presentations may be sent to the address listed below and will be accepted until July 21, 2004.

ADDRESSES: The meeting will be held at the University of South Florida College of Public Health, 13201 Bruce B. Downs Blvd., Tampa, Florida 33612-3805. Requests to make oral presentations, and texts of oral presentations should be captioned “Swimming Pool Hearing” and mailed to the Office of the Secretary, Consumer Product Safety Commission, Washington, DC 20207, or delivered to that office: Room 502, 4330 East-West Highway, Bethesda, Maryland 20814. Requests and texts of oral presentations also may be submitted by facsimile to (301) 504-0127 or by e-mail to cpsc-os@cpsc.gov.

FOR FURTHER INFORMATION CONTACT: For information about the purpose or subject matter of this meeting, contact Deborah Tinsworth, Project Manager, Directorate for Epidemiology, U.S. Consumer Product Safety Commission, Washington, D.C. 20207; telephone: (301) 504-7307; e-mail: dtinsworth@cpsc.gov. For more information about the schedule for submission of requests to make oral presentations and submission of texts of oral presentations, contact Rockelle Hammond, Office of the Secretary, U.S. Consumer Product Safety Commission, Washington, DC 20207; telephone (301) 504-6833; fax (301) 504-0127; or e-mail rhammond@cpsc.gov.

SUPPLEMENTARY INFORMATION:

A. Background

Swimming pools can be dangerous to young children. In 1999 and 2000, an average of about 250 children under 5 years old drowned in swimming pools each year. In 2002, approximately 1,600 children under 5 years old were treated in U.S. hospital emergency rooms for near-drowning injuries related to swimming pools. About 58 percent of these children were hospitalized. Approximately 67 percent of the near-drowning injuries were reported to have occurred in home settings. Societal costs associated with these drownings and near-drownings are almost $2 billion each year. In addition, these tragedies result in severe emotional impacts on the families of the victims. From 1990 through October 2003, CPSC has reports of 126 suction entrapment incidents, including 25 deaths. These incidents occurred in both swimming pools and spas.

CPSC has been actively involved for many years in injury prevention activities addressing swimming pool safety. In the late 1980s, CPSC conducted an extensive study of submersion incidents involving children under age 5 in residential swimming pools in eight counties in California, Arizona, and Florida. The results of this study indicated that most of the victims were boys between 1 and 3 years old. Nearly half of the victims were last seen in the house before being found in the pool. In addition, 23 percent of the victims were last seen on the porch or patio or in the yard. This means that fully 69 percent of the children who became victims were not expected to be in or at the pool, but were found in the water. Sixty-five percent of the incidents occurred in a pool owned by the victims's immediate family, and 33 percent occurred in pools owned by relatives or friends. Fewer than 2 percent of the incidents were the result of children trespassing on property where they did not belong. Seventy-seven percent of the victims had been missing for 5 minutes or less when they were found.

The speed with which swimming pool drownings and submersions can occur is a special concern. Toddlers are inquisitive and impulsive and lack a sense of danger. In addition, the incidents are silent; it is unlikely that splashing or screaming will occur to alert a parent or caregiver that a child is in trouble.

From this information as well as information on child development and behavior, CPSC staff concluded that the best way to reduce child drownings in residential pools is for pool owners to construct and maintain barriers that prevent young children from gaining access to pools. CPSC staff believes that barriers help overcome the short lapses in supervision that are often associated with submersion incidents. In 1994, CPSC published Safety Barrier Guidelines for Home Pools (available on CPSC's Web site at http://www.cpsc.gov.) Since that time, CPSC has continued to stress the importance of a primary barrier in addition to other layers of protection and has stressed the need for close supervision of young children in and around the water. CPSC staff has studied pool alarms and worked on voluntary standards for fencing, pool and spa safety covers, door alarms, and pool alarms. CPSC has conducted annual public outreach on child drowning prevention.

In 1998, CPSC published Guidelines for Entrapment Hazards: Making Pools and Spas Safer (available at http://www.cpsc.gov.) These guidelines provide safety information that will help identify and address potential entrapment hazards in swimming pools, wading pools, spas, and hot tubs. They address the hazards of evisceration/disembowelment, body entrapment, and hair entrapment/entanglement. The CPSC has recently circulated a draft revision to these guidelines and is responding to comments. These Guidelines emphasize layers of protection. In addition, CPSC staff has worked to develop or revise voluntary standards for suction fittings and Safety Vacuum Release Systems (“SVRS”). CPSC has also provided the public with information about suction entrapments and how to prevent them.

In 2003, CPSC set a new strategic goal to reduce the rate of swimming pool and other at-home drownings of children under 5 years old by 10 percent from the 1999-2000 annual average by the year 2013. The information that we gather at this public hearing will help CPSC develop plans for further work in the area of swimming pool safety.

B. The Public Hearing

The purpose of the public hearing is to provide a forum for oral presentations concerning swimming pool safety, specifically drownings of children under 5 years old in residential swimming pools and suction entrapment and entanglement deaths and injuries. The Commission intends to hold another public field hearing on swimming pool safety in Phoenix, Arizona on Tuesday, July 23, 2004.

The Commission requests comments from interested stakeholders and citizens on the following specific areas of interest:

1. Data on drowning and near-drowning in residential swimming pools and spas.

• In your locale, how many child drowning and near-drowning incidents do you see on an annual basis? How many suction entrapments and entanglements?

• What were the circumstances involved in these incidents?

• What trends in drowning and entrapment incidents have you seen in recent years?

• Have you seen any correlation between drowning intervention activities (for example, new barrier requirements, safety campaigns, etc.) and changes in the number of incidents and deaths?

• Are there ways in which the incident reporting process could be improved?

• In general, is the available incident information adequate for a thorough and accurate evaluation of the hazard scenarios involved?

• What data needs still exist?

2. Regional/local pool barrier codes, laws, and regulations.

• What law or guideline has been adopted in your region/locale?

• What does is require?

• When was it enacted?

• What was the source building code?

• Which agency has jurisdiction?

• What enforcement exists?

3. Effectiveness of pool barriers and other protective products.

• What evidence can you provide to demonstrate the effectiveness of protective products such as pool fencing, pool and/or door alarms, pool covers, etc?

• Which protective products do you think are the most effective?

• What factors do you think contribute to consumers using or not using these products?

• What research, if any, do you think needs to be done in this area?

4. Educational approaches.

• In your locale, what public information approaches have been used to address pool drowning hazards?

• To whom were these approaches targeted?

• What tasks were involved in carrying out these efforts?

• Which approaches worked, and which did not?

• What dollar resources were involved?

5. Role for CPSC.

• What role should CPSC take to help address child drownings and entrapment and entanglement injuries?

Participation in the hearing is open. See the DATES section of this notice for information on making requests to give oral presentations at the hearing.

Dated: April 29, 2004.
Todd A. Stevenson,
Secretary, Consumer Product Safety Commission.

[FR Doc. 04-10163 Filed 5-3-04; 8:45 am]

BILLING CODE 6355-01-P